DEPARTMENT OF TRANSPORTATION

Federal Aviation Administration

14 CFR Part 39

[Docket No. FAA-2020-0342; Product Identifier 2019-SW-078-AD]

RIN 2120-AA64

Airworthiness Directives; Airbus Helicopters Deutschland GmbH Helicopters

AGENCY: Federal Aviation Administration (FAA), DOT.

ACTION: Notice of proposed rulemaking (NPRM).

SUMMARY: The FAA proposes to adopt a new airworthiness directive (AD) for all Airbus Helicopters Deutschland GmbH Model MBB-BK 117 D-2 helicopters. This proposed AD was prompted by a report of an erroneous low rotor revolutions per minute (RPM) indication after establishing a one engine inoperative (OEI) condition. This proposed AD would require a software (SW) modification for the aircraft management computer (AMC). The FAA is proposing this AD to address the unsafe condition on these products.

DATES: The FAA must receive comments on this proposed AD by June 12, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Airbus Helicopters, 2701 N. Forum Drive, Grand Prairie, TX 75052; telephone 972-641-0000 or 800-232-0323; fax 972-641-3775; or at https://www.airbus.com/helicopters/services/technical-support.html. You may view this service information at the FAA, Office of the Regional Counsel, Southwest Region, 10101 Hillwood Pkwy, Room 6N-321, Fort Worth, TX 76177.

Examining the AD Docket

You may examine the AD docket on the internet at https://www.regulations.gov by searching for and locating Docket No. FAA-2020-0342; or in person at Docket Operations between 9 a.m. and 5 p.m., Monday through Friday, except Federal holidays. The AD docket contains this AD, the European Union Aviation Safety Agency (EASA) AD, any comments received, and other information. The street address for Docket Operations is listed above. Comments will be available in the AD docket shortly after receipt.

FOR FURTHER INFORMATION CONTACT: George Schwab, Aviation Safety Engineer, Safety Management Section, Rotorcraft Standards Branch, FAA, 10101 Hillwood Pkwy., Fort Worth, TX 76177; telephone 817-222-5110; email george.schwab@faa.gov.

SUPPLEMENTARY INFORMATION:

Comments Invited

The FAA invites you to send any written relevant data, views, or arguments about this proposal. Send your comments to an address listed under the ADDRESSES section. Include “Docket No. FAA-2020-0342; Product Identifier 2019-SW-078-AD” at the beginning of your comments. The FAA specifically invites comments on the overall regulatory, economic, environmental, and energy aspects of this NPRM. The FAA will consider all comments received by the closing date and may amend this NPRM because of those comments.

The FAA will post all comments received, without change, to https://www.regulations.gov, including any personal information you provide. The FAA will also post a report summarizing each substantive verbal contact received about this NPRM.

Discussion

EASA, which is the Technical Agent for the Member States of the European Union, has issued EASA AD No. 2019-0208, dated August 22, 2019 (referred to after this as the Mandatory Continuing Airworthiness Information, or “the MCAI”), to correct an unsafe condition for all Airbus Helicopters Deutschland GmbH Model MBB-BK 117 D-2 helicopters. EASA advises that an occurrence was reported of erroneous low RPM indication after establishing an OEI condition. To address this unsafe condition, Airbus Helicopters developed upgraded AMC SW, which prevents further occurrences, and issued service information providing instructions to update the SW of affected parts.

The FAA is issuing this AD to address erroneous low RPM indications, which could cause the pilot to make inappropriate control inputs, resulting in damage to the helicopter or injury to occupants.

You may examine the MCAI in the AD docket on the internet at https://www.regulations.gov by searching for and locating Docket No. FAA-2020-0342.

Related Service Information Under 1 CFR Part 51

Airbus Helicopters has issued Alert Service Bulletin MBB-BK117 D-2-42A-005, Revision 3, dated June 6, 2019. This service information describes procedures for a SW modification for the AMC.

This service information is reasonably available because the interested parties have access to it through their normal course of business or by the means identified in the ADDRESSES section.

FAA's Determination

This product has been approved by the aviation authority of another country, and is approved for operation in the United States. Pursuant to the FAA's bilateral agreement with the State of Design Authority, the FAA has been notified of the unsafe condition described in the MCAI and service information referenced above. The FAA is proposing this AD after evaluating all the relevant information and determining the unsafe condition described previously is likely to exist or develop on other products of the same type design.

Proposed Requirements of This NPRM

This proposed AD would require accomplishing the actions specified in the service information described previously, except as discussed under “Differences Between this Proposed AD and the MCAI or Service Information.”

Differences Between This Proposed AD and the MCAI or Service Information

EASA AD 2019-0208 provides a 60-day compliance time for accomplishing the SW modification. This proposed AD would require completion of the SW modification within 50 hours time-in-service.

Costs of Compliance

The FAA estimates that this proposed AD affects 30 helicopters of U.S. registry. The FAA estimates the following costs to comply with this proposed AD:

Estimated Costs for Required Actions
Labor cost | Parts cost | Cost per product | Cost on U.S. operators
1 work-hour × $85 per hour = $85 | $3,000 | $3,085 | $92,550

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters Deutschland GmbH: Docket No. FAA-2020-0342; Product Identifier 2019-SW-078-AD.

(a) Comments Due Date

The FAA must receive comments by June 12, 2020.

(b) Affected ADs

None.

(c) Applicability

This AD applies to all Airbus Helicopters Deutschland GmbH Model MBB-BK 117 D-2 helicopters, certificated in any category.

(d) Subject

Air Transport Association (ATA) of America Code 42, Integrated Modular Avionics.

(e) Reason

This AD was prompted by a report of an erroneous low rotor revolutions per minute (RPM) indication after establishing a one engine inoperative condition. The FAA is issuing this AD to address erroneous low RPM indications, which could cause the pilot to make inappropriate control inputs, resulting in damage to the helicopter or injury to occupants.

(f) Compliance

Comply with this AD within the compliance times specified, unless already done.

(g) Definitions

(1) Affected part: An aircraft management computer (AMC) having a software (SW) version installed that is identified as “pre-modification SW” in Figure 1 to paragraphs (g)(1), (h), and (i) of this AD, or earlier SW version.

(2) Group 1: Helicopters that have an affected part installed.

(3) Group 2: Helicopters that do not have an affected part installed.

(h) Software Modification

(1) For Group 1: Within 50 hours time-in-service after the effective date of this AD, update the SW of each affected part to the corresponding upgraded SW, as listed in Figure 1 to paragraphs (g)(1), (h), and (i) of this AD, in accordance with the Accomplishment Instructions, Section 3.B.2, of Airbus Helicopters Alert Service Bulletin MBB-BK117 D-2-42A-005, Revision 3, dated June 6, 2019.

(2) Replacement on a helicopter of an affected part with an AMC having the corresponding upgraded SW installed, as listed in Figure 1 to paragraphs (g)(1), (h), and (i) of this AD, or later SW upgrade is an acceptable alternative method of compliance for the requirements of paragraph (h)(1) of this AD for that helicopter.

(i) Parts Installation Prohibition

Do not install on any helicopter an affected part, and do not upload any SW identified as “pre-modification SW” in Figure 1 to paragraphs (g)(1), (h), and (i) of this AD, or earlier SW version, on any AMC, as required by paragraph (i)(1) or (2) of this AD, as applicable.

(1) For Group 1: After modification of that helicopter as specified in paragraph (h) of this AD.

(2) For Group 2: As of the effective date of this AD.

(j) Alternative Methods of Compliance (AMOCs)

(1) The Manager, Safety Management Section, Rotorcraft Standards Branch, FAA, may approve AMOCs for this AD. Send your proposal to: George Schwab, Aviation Safety Engineer, Safety Management Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, notify your principal inspector or lacking a principal inspector, the manager of the local flight standards district office or certificate holding district office, before operating any aircraft complying with this AD through an AMOC.

(k) Related Information

(1) The subject of this AD is addressed in European Union Aviation Safety Agency (EASA) AD No. 2019-0208, dated August 22, 2019. This EASA AD may be found in the AD docket on the internet at https://www.regulations.gov by searching for and locating Docket No. FAA-2020-0342.

(2) For service information identified in this AD, contact Airbus Helicopters, 2701 N. Forum Drive, Grand Prairie, TX 75052; telephone 972-641-0000 or 800-232-0323; fax 972-641-3775; or at https://www.airbus.com/helicopters/services/technical-support.html. You may view this service information at the FAA, Office of the Regional Counsel, Southwest Region, 10101 Hillwood Pkwy, Room 6N-321, Fort Worth, TX 76177.

Issued on April 23, 2020.
Gaetano A. Sciortino,
Deputy Director for Strategic Initiatives, Compliance & Airworthiness Division, Aircraft Certification Service.

[FR Doc. 2020-08976 Filed 4-27-20; 8:45 am]

BILLING CODE 4910-13-P